DEPARTMENT OF TRANSPORTATION

Federal Aviation Administration

14 CFR Part 39

[Docket No. FAA-2024-2330; Project Identifier MCAI-2024-00393-T; Amendment 39-22983; AD 2025-05-11]

RIN 2120-AA64

Airworthiness Directives; ATR—GIE Avions de Transport Régional Airplanes

AGENCY: Federal Aviation Administration (FAA), DOT.

ACTION: Final rule.

SUMMARY: The FAA is adopting a new airworthiness directive (AD) for all ATR—GIE Avions de Transport Régional Model ATR42 and ATR72 airplanes. This AD was prompted by a report of a manufacturing defect identified in the lavatory fire extinguisher. This defect could potentially result in leakage at the eutectic tip, leading to a loss of pressure in the cylinder, making fire extinguishing capabilities ineffective. This AD requires an inspection (i.e., weight check) and replacement, as applicable, of certain lavatory compartment fire extinguishers, and also prohibits the installation of affected parts, as specified in a European Union Aviation Safety Agency (EASA) AD, which is incorporated by reference (IBR). The FAA is issuing this AD to address the unsafe condition on these products.

DATES: This AD is effective April 22, 2025.

The Director of the Federal Register approved the incorporation by reference of a certain publication listed in this AD as of April 22, 2025.

ADDRESSES:

AD Docket: You may examine the AD docket at regulations.gov under Docket No. FAA-2024-2330; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2330.

FOR FURTHER INFORMATION CONTACT: Shahram Daneshmandi, Aviation Safety Engineer, FAA, 1600 Stewart Avenue, Suite 410, Westbury, NY 11590; telephone 206-231-3220; email shahram.daneshmandi@faa.gov.

SUPPLEMENTARY INFORMATION:

Background

The FAA issued a notice of proposed rulemaking (NPRM) to amend 14 CFR part 39 by adding an AD that would apply to all Model ATR42-200, ATR42-300, ATR42-320, and ATR42-500 airplanes; and Model ATR72-101, ATR72-102, ATR72-201, ATR72-202, ATR72-211, ATR72-212, and ATR72-212A airplanes. The NPRM published in the Federal Register on October 10, 2024 (89 FR 82190). The NPRM was prompted by AD 2024-0132, dated July 9, 2024, issued by EASA, which is the Technical Agent for the Member States of the European Union (EASA AD 2024-0132) (also referred to as the MCAI). The MCAI states a manufacturing defect was identified in the lavatory fire extinguisher. This defect could potentially result in leakage at the eutectic tip, leading to a loss of pressure in the cylinder, making fire extinguishing capabilities ineffective. This condition, if not detected and corrected, in combination with fire in the lavatory waste bin, could result in the propagation of an uncontrolled fire.

In the NPRM, the FAA proposed to require an inspection (i.e., weight check) and replacement, as applicable, of certain lavatory compartment fire extinguishers, as specified in EASA AD 2024-0132. The NPRM also proposed to prohibit the installation of affected parts, as specified in EASA AD 2024-0132. The FAA is issuing this AD to address the unsafe condition on these products.

You may examine the MCAI in the AD docket at regulations.gov under Docket No. FAA-2024-2330.

Discussion of Final Airworthiness Directive

Comments

The FAA received a comment from Air Line Pilots Association, International (ALPA) who supported the NPRM without change.

The FAA received additional comments from an individual. The following presents the comments received on the NPRM and the FAA's response to each comment.

Request To Revise Applicability

An individual requested that the FAA exclude certain airplanes from the proposed AD. The commenter stated the proposed AD is redundant if an aircraft has at least one additional fire extinguisher on board. The commenter stated that if the AD was narrowly written, it would not apply to aircraft that have at least one non-affected fire extinguisher on the aircraft and that while the proposed AD prioritizes safety, it is highly burdensome. The commenter stated that the AD should be inapplicable to aircraft that have multiple fire extinguishers.

The FAA disagrees with this request. The AD requires inspection and replacement of a specific lavatory fire extinguisher with a known manufacturing defect. In addition, 14 CFR 121.308 requires that each lavatory on all passenger-carrying airplanes be equipped with a built-in fire extinguisher for each disposal receptacle. Even if there are other non-affected fire extinguishers on an airplane, that airplane must still have a functional fire extinguisher in each lavatory. Therefore, the AD is necessary to address a known unsafe condition. The FAA has not changed this AD as a result of this comment.

Additional Changes Made to This AD

In the NPRM, the FAA inadvertently included reference to paragraph (i) of this AD in paragraph (g) of this AD. The FAA has revised paragraph (g) of this AD to remove the unneeded reference to paragraph (i) of this AD.

Further, the FAA has revised the applicability to remove the reference to “as identified in European Union Aviation Safety Agency AD 2024-0132, dated July 9, 2024 (EASA AD 2024-0132).” The FAA removed this statement as it is unnecessary because all airplanes are already captured without needing to reference the EASA AD. This further clarifies that ATR42-400 airplanes are not part of the applicability as Model ATR42-400 airplanes are not certificated by the FAA and are not included on the U.S. type certificate data sheet.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

EASA AD 2024-0132 specifies procedures for the inspection (i.e., weight check) and replacement, if any discrepancy is found (i.e., the measured weight is more than 2.0 grams below the gross weight stated on the product label), of certain lavatory compartment fire extinguishers and prohibits the installation of affected parts. This material is reasonably available because the interested parties have access to it through their normal course of business or by the means identified in the ADDRESSES section.

Costs of Compliance

The FAA estimates this AD affects 77 airplanes of U.S. registry. The FAA estimates the following costs to comply with this AD:

Estimated Costs for Required Action
Labor cost | Parts cost | Cost per product | Cost on U.S. operators
1 work-hour × $85 per hour = $85 | $0 | $85 | $6,545

The FAA estimates the following costs to do any necessary on-condition action that would be required based on the results of any required actions. The FAA has no way of determining the number of aircraft that might need this on-condition action:

Estimated Costs of On-Condition Action
Labor cost | Parts cost | Cost per product
1 work-hour × $85 per hour = $85 | $640 | $725

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

2025-05-11 ATR—GIE Avions de Transport Régional: Amendment 39-22983; Docket No. FAA-2024-2330; Project Identifier MCAI-2024-00393-T.

(a) Effective Date

This airworthiness directive (AD) is effective April 22, 2025.

(b) Affected ADs

None.

(c) Applicability

This AD applies to all ATR—GIE Avions de Transport Régional Model ATR42-200, ATR42-300, ATR42-320, and ATR42-500 airplanes; and Model ATR72-101, ATR72-102, ATR72-201, ATR72-202, ATR72-211, ATR72-212, and ATR72-212A airplanes, certificated in any category.

(d) Subject

Air Transport Association (ATA) of America Code 26, Fire protection.

(e) Unsafe Condition

This AD was prompted by a report of a manufacturing defect identified in the lavatory fire extinguisher. This defect could potentially result in leakage at the eutectic tip, leading to a loss of pressure in the cylinder, making fire extinguishing capabilities ineffective. The FAA is issuing this AD to address this condition, which, if not detected and corrected, in combination with fire in the lavatory waste bin, could result in the propagation of an uncontrolled fire.

(f) Compliance

Comply with this AD within the compliance times specified, unless already done.

(g) Requirements

Except as specified in paragraph (h) of this AD: Comply with all required actions and compliance times specified in, and in accordance with, European Union Aviation Safety Agency (EASA) AD 2024-0132, dated July 9, 2024 (EASA AD 2024-0132).

(h) Exceptions to EASA AD 2024-0132

(1) Where EASA AD 2024-0132 refers to its effective date, this AD requires using the effective date of this AD.

(2) Where EASA AD 2024-0132 defines a serviceable part as “Any lavatory (waste bin) compartment fire extinguishers, eligible for installation in accordance with ATR instructions, which is not an affected part,” this AD requires replacing that text with “Any lavatory (waste bin) compartment fire extinguishers, eligible for installation, which is not an affected part.”

(3) This AD does not adopt the “Remarks” section of EASA AD 2024-0132.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or ATR—GIE Avions de Transport Régional's EASA Design Organization Approval (DOA). If approved by the DOA, the approval must include the DOA-authorized signature.

(j) Additional Information

For more information about this AD, contact Shahram Daneshmandi, Aviation Safety Engineer, FAA, 1600 Stewart Avenue, Suite 410, Westbury, NY 11590; telephone 206-231-3220; email shahram.daneshmandi@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0132, dated July 9, 2024.

(ii) [Reserved]

(3) For EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on March 6, 2025.
Steven W. Thompson,
Acting Deputy Director, Compliance & Airworthiness Division, Aircraft Certification Service.

[FR Doc. 2025-04389 Filed 3-17-25; 8:45 am]

BILLING CODE 4910-13-P